DEPARTMENT OF ENERGY

Federal Energy Regulatory Commission

[Docket Nos. CP01-384-000 and CP01-387-000]

Islander East Pipeline Company, L.L.C., Algonquin Gas Transmission Company; Notice of Public Comment Meetings on the Draft Environmental Impact Statement for the Proposed Islander East Pipeline Project

April 15, 2002.

The staff of the Federal Energy Regulatory Commission (FERC or Commission) has prepared a draft environmental impact statement (DEIS) that discusses the environmental impacts of the Islander East Pipeline Project. This project involves construction and operation of facilities by Islander East Pipeline Company, L.L.C. (Islander East) and by Algonquin Gas Transmission Company (Algonquin) in New Haven County, Connecticut and Suffolk County, New York. Algonquin proposes the uprate of about 27 miles of 10- and 16-inch-diameter pipeline and 12,028 horsepower (hp) of additional compression at a new compressor station; Islander East proposes construction of about 50 miles of new 24-inch-diameter pipeline, 22.6 miles of which would be across the Long Island Sound; and other associated auxiliary facilities (i.e., three meter stations and five mainline valves) in various locations in Connecticut and Long Island, New York.

This notice is being sent to all persons to whom we ¹ mailed the DEIS.

¹ ”We” refers to the environmental staff of the Office of Energy Projects.

In addition to or in lieu of sending written comments on the DEIS, we invite you to attend a public comment meeting that the FERC will conduct in the project area. The locations and times for the meetings are listed below:

Date and time | Location
May 7, 2002, 7 p.m | Longwood High School auditorium, 100 Longwood Road, Middle Island, NY 11953.
May 8, 2002, 7 p.m | Branford High School auditorium, 185 East Main Street, Branford, CT 06405.

The public meetings are designed to provide you with an opportunity to offer your comments on the DEIS in person. A transcript of the meetings will be made so that your comments will be accurately recorded.

Magalie R. Salas,
Secretary.

[FR Doc. 02-9702 Filed 4-19-02; 8:45 am]

BILLING CODE 6717-01-P